LOCAL TELEVISION LOAN GUARANTEE BOARD

7 CFR Part 2200

Local Television Loan Guarantee Board; Procedural Rules

AGENCY: Local Television Loan Guarantee Board.

ACTION: Final rule.

SUMMARY: On December 21, 2000, the President signed into law Public Law 106-553, the Federal Funding Act for Fiscal Year 2001. Title X of Pub. L. 106-553, entitled the Launching our Communities' Access to Local Television Act of 2000 (“LOCAL TV Act” or “Act”) established the LOCAL Television Loan Guarantee Board (“Board”). The Board is authorized to guarantee loans to facilitate access, on a technologically neutral basis, to signals of local television stations for households located in nonserved or underserved areas. By this action, the Board is publishing its rules of procedure.

EFFECTIVE DATE: December 11, 2002.

FOR FURTHER INFORMATION CONTACT: Jacqueline G. Rosier, Secretary, LOCAL Television Loan Guarantee Board, 1400 Independence Avenue, SW, Stop 1541, Room 2919-S, Washington, DC 20250-1541. Telephone: 202-720-0530; FAX: 202-720-2734; E-Mail: jrosier@rus.usda.gov.

SUPPLEMENTARY INFORMATION: On December 21, 2000, the President signed into law Public Law 106-553, the Federal Funding Act for Fiscal Year 2001. Title X of Pub. L. 106-553, the LOCAL TV Act, established the Board. The Board is authorized to guarantee loans to facilitate access, on a technologically neutral basis, to signals of local television stations for households located in nonserved or underserved areas. The Board is comprised of the Chairman of the Board of the Federal Reserve System, and the Secretaries of Commerce, Agriculture, and the Treasury, or their designees. The Act states that an individual may be designated a member of the Board only if the individual is an officer of the United States pursuant to an appointment by the President, by and with the advice and consent of the Senate. Individuals have been designated as Board members for each of the agencies represented on the Board. The LOCAL TV Act does not, however, designate a chair of the Board.

The regulations promulgated by this action establish procedural rules of the Board. The Board adopted these regulations at its first meeting.

These procedural rules have several key components. Because the Act does not designate a chair, these procedures require that, at the first meeting of the Board, a chair be named. This has occurred, with the designee of the Department of the Treasury unanimously named as chair. The procedural rules require that all decisions and determinations of the Board be made by an affirmative vote of not less than three members of the Board. The procedural rules require the Board to appoint a Secretary, who will be responsible for sending notice of all meetings, preparing minutes of all meetings, maintaining a complete record of all votes and actions taken by the Board, and publishing documents in the Federal Register upon approval of the Board. Finally, these procedural rules make clear that all communication with the Board by any party or parties interested in any matter pending before the Board shall be conducted through staff. Moreover, these rules provide that any communication between such a parties and a member of the Board will be a matter of public record.

This rule relates to agency organization, procedure, and practices, and therefore, pursuant to 5 U.S.C. 553, notice of proposed rule making and opportunity for comment are not required. In addition, because no notice of proposed rule making is required pursuant to 5 U.S.C. 553, or any other law, the requirements of the Regulatory Flexibility Act, 5 U.S.C. 601 et seq., are inapplicable. Further, it has been determined that this rule is not a significant regulatory action for the purposes of Executive Order 12866.

List of Subjects in 7 CFR Part 2200

Loan programs—Communications, Rural areas, Telecommunications, Reporting and recordkeeping requirements.

For the reasons set forth in the preamble, chapter XX of title 7 of the Code of Federal Regulations is established to read as follows:

CHAPTER XX—LOCAL TELEVISION LOAN GUARANTEE BOARD

PART 2200—LOCAL TELEVISION LOAN GUARANTEE BOARD PROCEDURES

Sec.
2200.1 Definitions.
2200.2 Purpose and scope.
2200.3 Composition of the Board.
2200.4 Authorities of the Board.
2200.5 Offices.
2200.6 Meetings and actions of the Board.
2200.7 Officer and staff responsibilities.
2200.8 Ex parte communications.
2200.9 Amendments.
2200.10 [Reserved]

Authority: 47 U.S.C. 1101 et seq.; Pub. L. 106-553; Pub. L.107-171.

§ 2200.1 Definitions.

(a) Act means the Launching Our Communities' Access to Local Television Act of 2000, Title X of Public Law 106-553, 114 Stat. 2762A-128.

(b) Administrator means the Administrator of the Rural Utilities Service of the United States Department of Agriculture.

(c) Board means the Launching Our Communities' Access to Local (LOCAL) Television Loan Guarantee Board.

§ 2200.2 Purpose and scope.

This part is issued by the Board pursuant to Section 1004 of the Act. This part describes the Board's organizational structure and the means and rules by which the Board takes actions.

§ 2200.3 Composition of the Board.

The Board consists of the Secretary of the Treasury, the Chairman of the Board of Governors of the Federal Reserve System, the Secretary of Agriculture, and the Secretary of Commerce, or their respective designees. An individual may be designated a member of the Board only if the individual is an officer of the United States pursuant to an appointment by the President, by and with the advice and consent of the Senate.

§ 2200.4 Authority of the Board.

The Board is authorized to guarantee loans in accordance with the provisions of the Act and procedures, rules, and regulations established by the Board; to make the determinations authorized by the Act; and to take such other actions as are necessary to carry out its functions in accordance with the Act.

§ 2200.5 Offices.

The principal offices of the Board are at the U.S. Department of Agriculture, Rural Utilities Service, Room 2919-S, Stop 1541; 1400 Independence Ave., SW.; Washington, DC 20256-1590.

§ 2200.6 Meetings and actions of the Board.

(a) Chair. At its initial meeting, the Board shall select a Chair by an affirmative vote of not less than three members of the Board.

(b) Place and frequency. The Board meets, on the call of the Chair, in order to consider matters requiring action by the Board. Time and place for any such meeting shall be determined by the members of the Board.

(c) Quorum and voting. Three voting members of the Board constitute a quorum for the transaction of business. All decisions and determinations of the Board shall be made by an affirmative vote of not less than three members of the Board. All votes on determinations of the Board required by the Act shall be recorded in the minutes. A Board member may request that any vote be recorded according to individual Board members.

(d) Agenda of meetings. To the extent practicable, an agenda for each meeting shall be distributed to members of the Board at least two days in advance of the date of the meeting, together with copies of materials relevant to the agenda items.

(e) Minutes. The Secretary shall keep minutes of each Board meeting and of action taken without a meeting, a draft of which is to be distributed to each member of the Board as soon as practicable after each meeting or action. To the extent practicable, the minutes of a Board meeting shall be corrected and approved at the next meeting of the Board.

(f) Use of conference call communications equipment. Any member may participate in a meeting of the Board through the use of conference call, telephone or similar communications equipment, by means of which all persons participating in the meeting can simultaneously speak to and hear each other. Any member so participating in a meeting shall be deemed present for all purposes. Actions taken by the Board at meetings conducted through the use of such equipment, including the votes of each member, shall be recorded in the usual manner in the minutes of the meetings of the Board.

(g) Actions between meetings. When, in the judgment of the Chair, circumstances occur making it desirable for the Board to consider action when it is not feasible to call a meeting, the relevant information and recommendations for action may be transmitted to the members by the Secretary and the voting members may communicate their votes to the Chair in writing (including an action signed in counterpart by each Board member), electronically, or orally (including telephone communication). Any action taken under this paragraph has the same effect as an action taken at a meeting. Any such action shall be recorded in the minutes.

(h) Officers and staff of the Board. The Board shall appoint a Secretary and may appoint such other officers and staff as it deems appropriate, including an Executive Director and a Legal Counsel. An individual may hold more than one officer or staff position.

(i) Delegations of authority. The Board may delegate authority, subject to such terms and conditions as the Board deems appropriate, to officers and staff to take certain actions not required by the Act to be taken by the Board. All delegations shall be made pursuant to resolutions of the Board and recorded in writing, whether in the minutes of a meeting or otherwise. Any action taken pursuant to such delegated authority has the effect of an action taken by the Board.

§ 2200.7 Officer and staff responsibilities.

(a) Executive Director. The Executive Director advises and assists the Board in carrying out its responsibilities under the Act, provides general direction with respect to the administration of the Board's actions, directs the activities of the staff, and performs such other duties as the Board may require.

(b) Legal Counsel. The Legal Counsel provides legal advice relating to the responsibilities of the Board and performs such other duties as the Board may require.

(c) Secretary. The Secretary sends notice of all meetings, prepares minutes of all meetings, maintains a complete record of all votes and actions taken by the Board, has custody of all records of the Board, has authority to publish documents in the Federal Register upon approval of the Board and performs such other duties as the Board may require.

(d) Other. The responsibilities of any other officer or staff shall be defined by the Board at the time of appointment of such position.

§ 2200.8 Ex parte communications.

Communication with the Board shall be conducted through the staff of the Board. Oral or written communication, not on the public record, between the Board, or any member of the Board, and any party or parties interested in any matter pending before the Board concerning the substance of that matter is prohibited.

§ 2200.9 Amendments.

The Board's rules may be adopted or amended, or new rules may be adopted, only by the affirmative vote of not less than three members of the Board. Authority to adopt or amend these rules may not be delegated.

§ 2200.10 [Reserved]

Dated: October 31, 2002.
Jacqueline Rosier,
Secretary, LOCAL Television Loan Guarantee Board.

[FR Doc. 02-31055 Filed 12-10-02; 8:45 am]

BILLING CODE 3410-15-P